DEPARTMENT OF COMMERCE

National Institute of Standards and Technology

15 CFR Part 285

[Docket No: 070517136-7137-01]

RIN 0693-AB58

National Voluntary Laboratory Accreditation Program; Operating Procedures

AGENCY: National Institute of Standards and Technology, Commerce.

ACTION: Final Rule.

SUMMARY: The Director of the National Institute of Standards and Technology (NIST), United States Department of Commerce, is amending the regulations found at 15 CFR Part 285 pertaining to the operation of the National Voluntary Laboratory Accreditation Program (NVLAP) to reflect changes in the information for obtaining and inspecting applicable ISO/IEC documents. This action is editorial in nature and is intended to improve the accuracy of the agency's regulations and communication with its stakeholders.

DATES: This final rule is effective on July 3, 2007.

FOR FURTHER INFORMATION CONTACT: Sally S. Bruce, Chief, National Voluntary Laboratory Accreditation Program, National Institute of Standards and Technology, 100 Bureau Drive, Stop 2140, Gaithersburg, MD 20899-2140, telephone number (301) 975-4016, e-mail address sally.bruce@nist.gov.

SUPPLEMENTARY INFORMATION:

Description and Explanation of Proposed Changes

This final rule amends NIST's regulations to reflect the address change of the NVLAP office and the change in ordering information for the American National Standards Institute by replacing the outdated addresses in § 285.15(b) (15 CFR 285.15(b)) with the new information.

Copies of all ISO/IEC documents are available for purchase from the American National Standards Institute's eStandards Store at http://webstore.ansi.org. You may inspect copies of all applicable ISO/IEC documents at the National Voluntary Laboratory Accreditation Program, National Institute of Standards and Technology, 100 Bureau Drive, Room B115, Gaithersburg, MD. For access to the NIST campus, please contact NVLAP by phone at 301-975-4016 or by e-mail at NVLAP@nist.gov to obtain instructions for visitor registration.

Executive Order 12866

This rule of agency organization and management is not subject to Executive Order 12866.

Executive Order 12612

This rule does not contain policies with Federalism implications sufficient to warrant preparation of a Federalism assessment under Executive Order 12612.

Administrative Procedure Act

Prior notice and an opportunity for public comment are not required for this rule of agency organization, procedure, or practice. 5 U.S.C. 553(b)(A). This rule revises the regulations to identify the address where applicable ISO/IEC documents may be inspected. In addition, this rule is not a substantive rule as it merely revises the regulations to identify a new address. Therefore, this rule is not subject to the 30-day delay in effectiveness. 5 U.S.C. 553(d).

Regulatory Flexibility Act

Because notice and comment are not required under 5 U.S.C. 553, or any other law, the analytical requirements of the Regulatory Flexibility Act (5 U.S.C. 601 et seq.) are inapplicable. As such, a regulatory flexibility analysis is not required.

Paperwork Reduction Act

This rule does not involve a new collection of information subject to the Paperwork Reduction Act (PRA). The collection of information for NVLAP has been approved by the Office of Management and Budget (OMB) under control number 0693-0003. Notwithstanding any other provision of the law, no person is required to comply, nor shall any person be subject to penalty for failure to comply with, a collection of information, subject to the requirements of the Paperwork Reduction Act, unless that collection of information displays a currently valid OMB Control Number.

National Environmental Policy Act

This rule will not significantly affect the quality of the human environment. Therefore, an environmental assessment or Environmental Impact Statement is not required to be prepared under the National Environmental Policy Act of 1969.

List of Subjects in 15 CFR Part 285

Accreditation, Business and industry, Calibration, Commerce, Conformity assessment, Laboratories, Measurement standards, Testing.

For the reasons set forth in the preamble, title 15 of the Code of Federal Regulations is amended as follows:

PART 285—NATIONAL VOLUNTARY LABORATORY ACCREDITATION PROGRAM

1. The authority citation for 15 CFR Part 285 continues to read as follows:

Authority: 15 U.S.C. 272 et seq.

2. Section 285.15 is amended by revising paragraph (b) to read as follows:

§ 285.15 Obtaining documents.

* * * * *

(b) Copies of all ISO/IEC documents are available for purchase from the American National Standards Institute's eStandards Store at http://webstore.ansi.org. You may inspect copies of all applicable ISO/IEC documents at the National Voluntary Laboratory Accreditation Program, National Institute of Standards and Technology, 100 Bureau Drive, Room B115, Gaithersburg, MD. For access to the NIST campus, please contact NVLAP by phone at 301-975-4016 or by e-mail at NVLAP@nist.gov to obtain instructions for visitor registration.

Dated: June 27, 2007.
James M. Turner,
Deputy Director.

[FR Doc. E7-12853 Filed 7-2-07; 8:45 am]

BILLING CODE 3510-13-P